DEPARTMENT OF STATE

[Delegation of Authority No. 607]

Delegation of Authority—Executive Order 14163 and Presidential Proclamation 10949

By virtue of the authority vested in the Secretary of State by the laws of the United States, including Section 1 of the State Department Basic Authorities Act, as amended (22 U.S.C. 2651a), Executive Order 14163 of January 20, 2025, Realigning the United States Refugee Admissions Program, and Presidential Proclamation 10949 of June 4, 2025, Restricting the Entry of Foreign Nationals to Protect the United States from Foreign Terrorists and Other National Security and Public Safety Threats, I hereby delegate to the Assistant Secretary for Population, Refugees, and Migration, to the extent authorized by law, the authority under section 3(c) of said Executive Order to determine that the entry of such aliens as refugees is in the national interest and does not pose a threat to the security or welfare of the United States, and under section 4(d) of said Presidential Proclamation to determine that travel by a foreign national would serve a United States national interest.

The Secretary, Deputy Secretary, Deputy Secretary for Management and Resources, and the Under Secretary for Foreign Assistance, Humanitarian Affairs, and Religious Freedom may exercise any function or authority delegated by this delegation.

This Delegation of Authority does not supersede or otherwise affect any other delegation of authority currently in effect and will be published in the Federal Register.

Dated: August 20, 2025.
Marco Rubio,
Secretary of State.

Editorial Note: This document was received for publication by the Office of the Federal Register on December 17, 2025.

[FR Doc. 2025-23458 Filed 12-18-25; 8:45 am]

BILLING CODE 4710-33-P